DEPARTMENT OF VETERANS AFFAIRS

Solicitation of Nominations for Appointment to the Veterans' Advisory Committee on Education

ACTION: Notice.

SUMMARY: The Department of Veterans Affairs (VA), Veterans Benefits Administration (VBA), is seeking nominations from qualified candidates to be considered for appointment to the Veterans' Advisory Committee on Education. (hereafter referred to as “VACOE” or “the Committee”).

DATES: Nominations for membership on the Committee must be received no later than 5:00 p.m. EST on August 31, 2023.

ADDRESSES: All nominations should be emailed directly to EDUSTAENG.VBAVACO@va.gov. Please write “Nomination for VACOE Membership” as the subject line.

FOR FURTHER INFORMATION CONTACT: Mr. Joseph Maltby, VBA, Education Service, VA via email at Joseph.Maltby@va.gov or (202) 227-0879. Copies of the Committee charter, most recent report to the Secretary, and minutes from recent meetings can be obtained at https://www.va.gov/ADVISORY/Veterans_Advisory_Committee_on_Education.asp.

SUPPLEMENTARY INFORMATION: The Committee was established to provide advice to the Secretary of Veterans Affairs (“the Secretary”) on the administration of education and training programs for Veterans and Service members, Reservists and Guard Personnel, and for dependents of Veterans, including programs under chapters 30, 32, 33, 35, and 36 of title 38 U.S.C. and chapter 1606 of title 10, U.S.C.

Authority: The Committee is authorized by 38 U.S.C. 3692 and operates under the provisions of the Federal Advisory Committee Act, as amended (5 U.S.C. ch. 10). Public Law 117-180 section 404 extended the Committee's statutory authority to December 31, 2026. The Committee advises the Secretary on existing VA education benefits program and services and recommends new and improved education benefit programs and services. In addition, the Committee will submit its recommendations and reports to the Secretary; may also submits its reports to Congress.

Membership Criteria: VBA is requesting nominations for upcoming vacancies on the Committee. The Committee is composed of 12 members, in addition to ex-officio members. As required by statute, the members of the Committee are appointed by the Secretary from the general public, including representatives of organizations furnishing education or training to GI Bill students, Veteran Service Organizations, and current or former GI Bill students, particularly Veterans. The Committee conducts the following:

• Attending two public meetings a year, running approximately six to eight hours over two to three days. If the Committee decides to form subcommittees, participating in subcommittee meetings, which are typically no more than two hours once a month.

• Reviewing additional information and documentation outside of meetings on an ad hoc basis.

• Contributing to the drafting and review of recommendations and, as applicable, subcommittee findings.

• Taking Federal Advisory Committee Act training and ethics training when appointed and once a year after that.

• Notifying the Designated Federal Officer of any potential conflicts of interest.

In accordance with the Committee's charter, the Secretary shall determine the number, terms of service and pay and allowances of Committee members. The Committee is seeking one member to begin a term in in November or December 2023 and six members to begin terms in April 2024.

Requirements for Nomination Submission

Nominations should be typewritten. The nomination package should include: (1) a letter of nomination that clearly states the name and affiliation of the nominee, a summary of the nominee's experience and qualification relative to the membership criteria listed above, and a statement from the nominee indicating a willingness to serve as a member of the Committee; (2) the nominee's contact information, including name, mailing address, telephone numbers and email address; and (3) the nominee's curriculum vitae or resume, not to exceed five pages. Nominations must state that the nominee is willing to serve as a member of the Committee and appears to have no conflict of interest that would preclude membership. An ethics review is conducted for each selected nominee.

Self-nominations are acceptable. Any letters of nomination from organizations or other individuals must accompany the package when it is submitted. Letters of nomination submitted without a complete nomination package will not be considered. If you are submitting a package on behalf of an individual, it must include all of the required components and complete contact information. Do not submit a package without the nominee's consent or awareness.

To the extent possible, the Secretary seeks members who have diverse professional and person qualifications including but not limited to subject matter experts in the areas described above. The Department makes every effort to ensure that the membership of its advisory committees is fairly balanced in terms of points of view represented and the Committee's function. Every effort is made to ensure that a broad representation of geographic areas, gender, racial and ethnic minority groups, and the disabled are given consideration for membership. Appointment to this Committee shall be made without discrimination because of a person's race, color, religion, sex (including gender identity, transgender status, sexual orientation, and pregnancy), national origin, age, disability or genetic information. We ask that nomination include any relevant experience and information so that VA can ensure diverse Committee membership.

Dated: July 27, 2023.
Jelessa M. Burney,
Federal Advisory Committee Management Officer.

[FR Doc. 2023-16269 Filed 7-31-23; 8:45 am]

BILLING CODE 8320-01-P